NATIONAL AERONAUTICS AND SPACE ADMINISTRATION

[Notice: (21-048)]

NASA Federal Advisory Committees; Notice of Committees Re-Establishment Pursuant to the Federal Advisory Committee Act

AGENCY: National Aeronautics and Space Administration.

The Administrator of the National Aeronautics and Space Administration (NASA) has determined that the re-establishment of four (4) NASA Federal advisory committees under the Federal Advisory Committee Act (FACA) is necessary and in the public interest in connection with the performance of duties imposed upon NASA by law. This determination follows consultation with the Committee Management Secretariat, General Services Administration. These four committees were originally established on January 17, 2017. These four committees and their charters expired on June 12, 2021.

Name of Federal Advisory Committees: Astrophysics Advisory Committee; Heliophysics Advisory Committee; Earth Science Advisory Committee; and Planetary Science Advisory Committee.

Purpose and Objectives: Each of the four (4) NASA Federal advisory committees will advise NASA on scientific matters within the scope of its respective area of responsibility. Specifically, the scientific matters involve NASA research programs, policies, plans, and priorities pertaining to Astrophysics, Heliophysics, Earth Science, and Planetary Science. The four (4) NASA Federal advisory committees will function solely as advisory bodies and will comply fully with the provisions of FACA.

Membership: Membership of each of the four (4) NASA Federal advisory committees and any subordinate groups formed under each committee shall consist of Special Government Employees, Regular Government Employees, or Representatives. They will be chosen from among academia, government and industry with demonstrated and well-recognized knowledge, expertise and experience in fields relevant to their respective scientific disciplines. The membership of each Federal advisory committee will be fairly balanced in terms of points of view represented and functions to be performed. Diversity shall be considered as well.

Duration: Each of the four (4) NASA Federal advisory committees is a discretionary committee and is envisioned to be continuing entity subject to charter renewals every two years.

Responsible NASA Official: Mr. Jason Callahan, Science Mission Directorate, NASA Headquarters, (202) 358-0065 or jason.w.callahan@nasa.gov.

FOR FURTHER INFORMATION CONTACT: Mr. Jason Callahan, Science Mission Directorate, NASA Headquarters, (202) 358-0065 or jason.w.callahan@nasa.gov.

Patricia Rausch,
Advisory Committee Management Officer, National Aeronautics and Space Administration.

[FR Doc. 2021-16028 Filed 7-27-21; 8:45 am]

BILLING CODE 7510-13-P